DEPARTMENT OF COMMERCE

Foreign-Trade Zones Board

[Docket 10-2000]

Foreign-Trade Zone 86—Tacoma, WA; Application for Subzone, Tesoro Petroleum Corporation, Anacortes, WA

An application has been submitted to the Foreign-Trade Zones Board (the Board) by the Port of Tacoma, grantee of FTZ 86, requesting special-purpose subzone status for the oil refinery complex of Tesoro Petroleum Corporation, located in Anacortes, Washington. The application was submitted pursuant to the provisions of the Foreign-Trade Zones Act, as amended (19 U.S.C. 81a-81u), and the regulations of the Board (15 CFR part 400). It was formally filed on March 15, 2000.

The refinery complex (903 acres, 300 employees) is located on West March Point Road in Anacortes, Washington (Skagit County), some 100 miles north of Tacoma. The refinery (108,200 BPD) is used to produce fuels and liquid petroleum gases, including gasoline, jet fuel, distillates, residual fuels, naphthas, motor fuel blendstocks, liquefied natural gas, butane, isobutane, and propane. Refinery by-products include petroleum coke, asphalt and sulfur. Some 68 percent of the crude oil (96 percent of inputs), and some naphthas, virgin gas oil and field butanes are sourced abroad. Zone procedures would exempt the refinery from Customs duty payments on the foreign products used in its exports. On domestic sales, the company would be able to choose the Customs duty rates that apply to certain petrochemical feedstocks and refinery by-products (duty-free) by admitting incoming foreign crude oil in non-privileged foreign status. The duty rates on inputs range from 5.25 cents/barrel to 10.5 cents/barrel. The application indicates that the savings from zone procedures would help improve the refinery's international competitiveness.

In accordance with the Board's regulations, a member of the FTZ Staff has been designated examiner to investigate the application and report to the Board.

Public comment is invited from interested parties. Submissions (original and 3 copies) shall be addressed to the Board's Executive Secretary at the address below. The closing period for their receipt is May 22, 2000. Rebuttal comments in response to material submitted during the foregoing period may be submitted during the subsequent 15-day period to June 5, 2000.

A copy of the application and the accompanying exhibits will be available for public inspection at each of the following locations:

U.S. Department of Commerce, Export Assistance Center, 2001 Sixth Ave., Suite 650, Seattle, WA 98121

Office of the Executive Secretary, Foreign-Trade Zones Board, Room 4008, U.S. Department of Commerce, 14th and Pennsylvania Avenue, N.W., Washington, D.C. 20230

Dated: March 16, 2000.
Dennis Puccinelli,
Acting Executive Secretary.

[FR Doc. 00-7094 Filed 3-21-00; 8:45 am]

BILLING CODE 3510-DS-P